LIBRARY OF CONGRESS

Copyright Office

37 CFR Part 201

[Docket No. RM 2011-9]

Fees

AGENCY: Copyright Office, Library of Congress.

ACTION: Final rule.

SUMMARY: The Copyright Office of the Library of Congress is publishing a final rule establishing an additional fee for a particular service: Travel expenses in connection with educational activities.

DATES: Effective Date: March 28, 2012.

FOR FURTHER INFORMATION CONTACT: David O. Carson, General Counsel, P.O. Box 70400, Washington, DC 20024-0400, Telephone: (202) 707-8380. Telefax: (202) 707-8366.

SUPPLEMENTARY INFORMATION:

Background

This final rule adjusts Copyright Office's schedule of fees by adding a fee for travel expenses in connection with participation by Copyright Office personnel in various educational activities when participation has been requested by another organization or person and that organization or person has agreed to reimburse the Office for travel expenses. As the office administering the nation's records of copyright ownership and as the advisor to Congress, the federal departments and agencies and the judiciary on national and international issues relating to copyright, the Copyright Office has long considered informing and educating the public on copyright issues to be a strategic goal. In furtherance of that goal, the Office has long engaged in various educational programs to inform the public on copyright issues. The Office performs these activities under its broader authority set forth in 17 U.S.C. 701(b)(4), which directs the Office to “[c]onduct studies and programs regarding copyright, other matters arising under this title, and related matters, the administration of the Copyright Office, or any function vested in the Copyright Office by law, including educational programs conducted cooperatively with foreign intellectual property offices and international intergovernmental organizations.”

Frequently, the Register of Copyrights and other Copyright Office employees are requested to travel to speak to various groups of authors, copyright owners, their representatives, users of copyrighted works, and other members of the public to provide information about the activities of the Copyright Office, including copyright registration and recordation, the statutory licenses, pending and enacted copyright legislation, Copyright Office regulations, international copyright developments, significant copyright litigation matters, etc. Because the Copyright Office has limited travel funds and because various organizations consider it highly beneficial to host presentations by Copyright Office officials, it has been the general practice of the Office to request that the sponsoring organization or person pay the travel expenses of the Copyright Office personnel. More often than not, the Office's limited travel funds would not permit the Office to send anyone to participate in such programs unless the sponsoring organization or person is willing to pay those expenses.

This regulation codifies the authority for payment of those travel expenses. It adds a new paragraph (f) to the Copyright Office fee schedule in § 201.3 of the Code of Federal Regulations, and provides that the Copyright Office shall charge a fee, consistent with the Federal Travel Regulations (FTR) set forth in Chapters 300 through 304 of Title 41 of the Code of Federal Regulations as well as other applicable laws and regulations, to cover the travel expenses of Copyright Office personnel, in connection with Copyright Office educational activities when participation by Copyright Office personnel has been requested by another person or organization which has agreed to pay such expenses. The fee may be no greater than the amount authorized under the FTR.

The Office is also making a technical amendment to paragraph (b)(2) of § 201.3, changing the reference to section 708(a)(10) of title 17 of the U.S. Code. Due to amendments to section 708, that reference has been changed to section 708(a).

Because this regulatory amendment simply codifies a longstanding practice and is necessary in order to permit uninterrupted operation of the Office's ongoing educational activities, the Register concludes that providing notice and opportunity for comment would be impracticable, unnecessary and contrary to the public interest. For similar reasons and in order to minimize disruptions in the Office's educational activities, the Register finds that there is good cause to make the rule effective immediately upon publication.

List of Subjects in 37 CFR Part 201

Copyright, General provisions.

Final Rule

In consideration of the foregoing, part 201 of 37 CFR chapter II is amended as follows:

PART 201—GENERAL PROVISIONS

1. The authority citation for part 201 continues to read as follows:

Authority: 17 U.S.C. 702.

2 Amend § 201.3 as follows:

a. In paragraph (b)(2) by removing “708(a)(10)” and adding “708(a)” in its place.

b. By adding new paragraph (f) as follows:

§ 201.3 Fees for registration, recordation, and related services, special services, and services performed by the Licensing Division.

* * * * *

(f) Fees for travel in connection with educational activities. For travel expenses in connection with Copyright Office educational activities when participation by Copyright Office personnel has been requested by another organization or person and that organization or person has agreed to pay such expenses, collection of the fee shall be subject to, and the amount of the fee shall be no greater than, the amount authorized under the Federal Travel Regulations found in Chapters 300 through 304 of Title 41.

Dated: March 12, 2012.
Maria A. Pallante,
Register of Copyrights.

Dated: March 19, 2012.
Approved by:
James H. Billington,
The Librarian of Congress.

[FR Doc. 2012-7427 Filed 3-27-12; 8:45 am]

BILLING CODE 1410-30-P